CORPORATION FOR NATIONAL AND COMMUNITY SERVICE

Computer Matching and Privacy Protection Act of 1988

AGENCY: Corporation for National and Community Service.

ACTION: Notice of new computer matching program between the Corporation for National and Community Service and the Social Security Administration.

SUMMARY: In accordance with the Privacy Act of 1974 (5 U.S.C. 552a), as amended by the Computer Matching and Privacy Protection Act of 1988 (Pub. L. 100-503), OMB Final Guidance Interpreting the Provisions of the Computer Matching and Privacy Protection Act of 1988 (54 FR 25818, June 19, 1989), and OMB Circular No. A-130, “Management of Federal Information Resources,” the Corporation for National and Community Service (“CNCS”) is issuing a public notice of its new computer matching program with the Social Security Administration (“SSA”).

DATES: CNCS will file a report on the computer matching agreement with the Office of Management and Budget and Congress. The matching program will begin September 1, 2011, or 40 days after the date of CNCS's submissions to OMB and Congress, whichever is later. The matching program will continue for 18 months after the effective date and may be extended for an additional 12 months thereafter, if the conditions specified in 5 U.S.C. 552a(o)(2)(D) have been met.

ADDRESSES: You may submit comments identified by the title of this notice, by any of the following methods.

(1) By mail sent to: Corporation for National and Community Service, Attention Amy Borgstrom, Associate Director for Policy, Room 9515, 1201 New York Avenue, NW., Washington, DC 20525.

(2) By fax to: (202) 606-3467.

(3) By e-mail to: aborgstrom@cns.gov. Individuals who use a telecommunications device for the deaf (TTY-TDD) may call (202) 606-3472 between 8:30 a.m. and 5 p.m. Eastern Time, Monday through Friday.

FOR FURTHER INFORMATION CONTACT: Amy Borgstrom, Associate Director for Policy, (202) 606-6930, or by e-mail at aborgstrom@cns.gov.

SUPPLEMENTARY INFORMATION:

A. General

The Privacy Act of 1974 (5 U.S.C. 552a), as amended by the Computer Matching and Privacy Protection Act of 1988 (Pub. L. 100-503), regulates the use of computer matching agreements by Federal agencies when records in a system of records are matched with other Federal, State, or local government records. Among other things, it requires Federal agencies involved in computer matching agreements to publish a notice in the Federal Register regarding the establishment of the matching program.

B. Participating Agencies

Participants in this computer matching program are the Social Security Administration (source agency) and the Corporation for National and Community Service (recipient agency).

C. Purpose of the Match

The computer match between CNCS and SSA will enable CNCS to verify the social security numbers (SSNs) of applicants for approved national service positions, and verify statements made by those applicants regarding their citizenship status.

D. Authority

SSA's authority for this matching program is section 1711 of the Serve America Act of 2009 (Pub. L. 111-13, April 21, 2009). The legal authority for the disclosure of SSA data under this agreement is section 1106 of the Social Security Act (42 U.S.C. 1306(b)), 5 U.S.C. 552a(b)(3) of the Privacy Act, and the regulations and guidance promulgated thereunder.

CNCS's legal authority to enter into this agreement is section 146(b)(3) of the National and Community Service Act (NCSA) (42 U.S.C. 12602(a)), concerning an individual's eligibility to receive a Segal AmeriCorps Education Award from the National Service Trust upon successful completion of a term of service in an approved national service position and section 1711 of the Serve America Act (Pub. L. 111-13), which directs CNCS to enter into a data matching agreement to verify statements made by an individual declaring that such individual is in compliance with section 146(b)(3) of the NCSA by comparing information provided by the individual with information relevant to such a declaration in the possession of another Federal agency.

E. Categories of Records and Individuals Covered

Each individual who applies to serve in an approved national service position, including positions in AmeriCorps State and National, AmeriCorps VISTA, AmeriCorps NCCC, and Serve America Fellows, must, at the time of application, certify that the individual meets the citizenship eligibility criteria to serve in the position, i.e., is a citizen, national, or lawful permanent resident of the United States.

The Master Files of Social Security Number Holders and SSN Applications SSA/OEEAS 60-0058, last published at 74 FR 62866 (December 1, 2009) (Enumeration System) maintains records about each individual who has applied for and obtained an SSN. SSA uses information from the Enumeration System to assign SSNs. The information CNCS provides from the AmeriCorps Member Individual Account (Corporation 8) system of records will be matched against this system of records and verification results will be disclosed under the applicable routine use.

F. Inclusive Dates of the Matching Program

This agreement will be in effect for a period of 18 months, with a provision for a one-time extension for a period not to exceed 12 months. In order to renew this agreement, both CNCS and SSA must certify to their respective Data Integrity Boards that: (1) The matching program will be conducted without change; and (2) the matching program has been conducted in compliance with the original agreement.

G. Procedure

CNCS will provide SSA with a data file including each applicant's social security number, first and last names, date of birth, and sex. SSA will conduct a match on the identifying information. If the match does not return a result verifying the individual's citizenship status, CNCS will contact the individual or the grant recipient program that selected the individual to verify the results in accordance with the requirements of 5 U.S.C. 552a(p) and applicable OMB guidelines. The affected individual will have an opportunity to contest the accuracy of the information provided by SSA. The applicant will have at least 30 days from the date of the notice to provide clear and convincing evidence of the accuracy of the social security number, proof of U.S. citizenship, or both. The notice will advise the individual and the grant recipient program that selected the individual that failure to respond within 30 days will provide a valid basis for CNCS to assume that the information provided by SSA is correct.

H. Additional Notice

Applicants will be informed at the time of application that information provided on the application is subject to verification through a computer matching program. The application package will contain a privacy certification notice that the applicant must sign authorizing CNCS to verify the information provided.

I. Other Information

CNCS will furnish a copy of this notice to both Houses of Congress and the Office of Management and Budget.

Dated: August 2, 2011.
Philip W. Clark,
Chief Information Officer.

[FR Doc. 2011-20019 Filed 8-8-11; 8:45 am]

BILLING CODE 6050-$$-P